DEPARTMENT OF AGRICULTURE

Forest Service

Helena National Forest Weed Treatment Project Helena National Forest, Powell, Lewis & Clark, Jefferson, Broadwater, and Meagher Counties, Montana

AGENCY: Forest Service, USDA.

ACTION: Notice; intent to prepare Environmental Impact Statement.

SUMMARY: The USDA, Forest Service will prepare an Environmental Impact Statement (EIS) for weed treatments on the Helena National Forest including wilderness and roadless areas. The treatment plan will utilize an integrated pest management approach, utilizing a variety of chemical, biological and mechanical controls. Chemical treatments will include both ground and aerial herbicide applications.

Further analysis of the proposed action and alternatives to that proposal may result in a decision(s) that includes amendments to the Forest Plan.

DATES: Comments concerning the scope of the analysis should be received in writing no later than June 1, 2002.

ADDRESSES: The responsible official is Thomas J. Clifford, Forest Supervisor, Helena National Forest, Supervisor's Office, 2880 Skyway Drive, Helena, MT 59601. Phone: (406) 449-5201.

FOR FURTHER INFORMATION CONTACT: Dea Nelson, Townsend Ranger District, 415 So. Front Townsend, MT 59644. Phone: (406) 266-3425.

SUPPLEMENTARY INFORMATION: The project would occur on National Forest lands of the Townsend, Helena, and Lincoln Ranger Districts. Treatments would take place in general forest zones as well as the Elkhorn Wildlife Management Area, the Gates of the Mountains Wilderness Area, the Scapegoat Wilderness Area and inventoried roadless areas. The treatment plan will utilize an integrated pest management approach, utilizing a variety of chemical, biological and mechanical controls. Chemical treatments will include both ground and aerial herbicide applications. Approximately 18,000 acres will be treated with ground based application equipment and approximately 5,000 acres with aerial equipment, either fixed wing or helicopters. Chemical applications will take place at the appropriate time of year for the individual weed species. Biological controls will be introduced where appropriate and as they become available. These will include insects, pathogens, and grazing of livestock such as sheep or goats to control weeds in situations where similar practices have been successful in other locations. Some particularly sensitive area or areas of small, new infestations may be treated mechanically, which could include hand pulling or cultivation.

This EIS will tier to the Helena Forest Plan Final EIS of April 1986, that provides program goals, objectives, and standards and guidelines for conducting management activities in this area. All activities associated with the proposal will be designed to maintain or enhance the resource objectives identified in the Forest Plan.

The Forest Service is seeking information and comments from Federal, State, and local agencies together with organizations or individuals who may be interested in or affected by the proposed action. The Forest Service invites written comments and suggestions on the issues for the proposal and the area being analyzed. Information received will be used in preparation of the Draft EIS.

Preparation of the EIS will include the following steps:

1. Identification of issues to be analyzed in depth.

2. Identification of additional reasonable alternatives.

3. Identification of potential environmental effects of the alternatives.

Alternatives to this proposal will include the “no action” alternative, and other alternatives will examine variations in the amount and method of weed treatment.

The preliminary issues identified are:

1. The potential impacts of noxious weed treatment on wildlife.

2. The potential impacts of noxious weed treatment on water quality and fisheries.

3. The potential impacts of noxious weed treatment on native grasses, forbs, shrubs and trees.

4. The potential effects on human health from herbicide use.

5. The potential effects of noxious weed treatment in Wilderness Areas on the quality of the wilderness experience.

The Forest Service will analyze and disclose in the DEIS and FEIS the environmental effects of the proposed action and a reasonable range of alternatives. The DEIS and FEIS will disclose the direct, indirect and cumulative environmental effects of each alternative and its associated site-specific mitigation measures.

Public participation is especially important at several points of the analysis. Interested parties may visit with the Forest Service officials at any time during the analysis. However, two periods of time are specifically identified for the receipt of comments. The first comment period is during the scoping process when the public is invited to give written comments to the Forest Service. The Helena National Forest would like to receive scoping comments by June 1, 2002. The second review period is during the 45 day review of the DEIS when the public is invited to comment on the DEIS.

The DEIS is expected to be filed with the Environmental Protection Agency (EPA) and available for public review in August, 2002. At that time, the EPA will publish a notice of availability of the DEIS in the Federal Register.

The comment period on the DEIS will be 45 cays from the date the notice of availability is published in the Federal Register.

At this early stage in the scoping process, the Forest Service believes it is important to give reviewers notice of several court rulings related to public participation in the environmental review process. First, reviews of DEIS must structure their participation in the environmental review of the proposal so that it is meaningful and alerts an agency to the reviewer's position and contentions. Vermont Yankee Nuclear Power Corp. v. NRDC. 435 U.S. 519, 553 (1978). Secondly, environmental objections that could be raised at the draft environmental impact statement stage, but that are not raised until after completion of the FEIS may be waived or dismissed by the courts. City of Angoon v. Hodel, 803 F. 2d 10 1 6, 1022 (9th cir. 1986) and Wisconsin Hermitages, Inc. v. Harris, 490 F. Supp. 1338 (E.D. Wis. 1980). Because of these court rulings, it is very important that those interested in this proposed action participate by the close of the 45-day comment period so that substantive comments and objections are made available to the Forest Service at a time when it can meaningfully consider them and respond to them in the FEIS.

To assist the Forest Service in identifying and considered issues and concerns on the proposed action, comments on the DEIS should be as specific as possible. It is also helpful if comments refer to specific pages or chapters of the draft statement. Comments may also address the adequacy of the DEIS or the merits of the alternatives formulated and discussed in the statement. (Reviewers may wish to refer to the Council on Environmental Quality Regulations for implementing the procedural provisions of the National Environmental Policy Act at 40 CFR 1503.3 in addressing these points.)

After the comment period ends on the DEIS, the comments will be analyzed and considered by the Forest Service in preparing the FEIS. The FEIS is expected to be filed in January, 2003.

Dated: February 12, 2002.
Thomas J. Clifford,
Forest Supervisor, Helena National Forest.

[FR Doc. 02-4051 Filed 2-19-02; 8:45 am]

BILLING CODE 3910-11-M